DEPARTMENT OF COMMERCE

National Oceanic and Atmospheric Administration

[I.D. 022300B]

Endangered Species; Permits

AGENCY: National Marine Fisheries Service (NMFS), National Oceanic and Atmospheric Administration (NOAA), Commerce.

ACTION: Receipt of applications for scientific research permits (1240, 1241, 1242, 1243, 1244); receipt of an application to modify a permit (1136); issuance of a permit (1215); and issuance of amendments and modifications to existing permits (1119, 1130, 1140).

SUMMARY: Notice is hereby given of the following actions regarding permits for takes of endangered and threatened species for the purposes of scientific research and/or enhancement:

NMFS has received permit applications from the U.S. Geological Survey at Cook, WA (USGS) (1240, 1241) and the Fish Ecology Division, Northwest Fisheries Science Center, NMFS at Seattle, WA (FED-NWFSC) (1242, 1243, 1244); NMFS has received an application for modifications to a permit from the Oregon Cooperative Fishery and Wildlife Research Unit at Corvallis, OR (OCFWRU) (1136); NMFS has issued a permit to Mr. Charles Cortelyou of Washington Department of Natural Resources at Olympia, WA (WDNR) (1215); NMFS has issued an amendment to a scientific research permit to the U.S. Fish and Wildlife Service (USFWS) (1119); and NMFS has issued modifications to scientific research permits to USGS (1130) and the Environmental Conservation Division, Northwest Fisheries Science Center, NMFS, at Seattle, WA (ECD-NWFSC)(1140).

DATES: Comments or requests for a public hearing on any of the new applications or the modification request must be received at the appropriate address or fax number (see ADDRESSES) no later than 5:00pm pacific standard time on April 3, 2000.

ADDRESSES: Written comments on any of the new applications or the modification request should be sent to the Protected Resources Division (PRD), F/NWR3, 525 NE Oregon Street, Suite 500, Portland, OR 97232-2737. Comments may also be sent via fax to 503-230-5435. Comments will not be accepted if submitted via e-mail or the internet. The applications and related documents are available for review in the Protected Resources Division, F/NWO3, 525 NE Oregon Street, Suite 500, Portland, OR 97232-2737 (503-230-5400).

Documents may also be reviewed by appointment in the Office of Protected Resources, F/PR3, NMFS, 1315 East-West Highway, Silver Spring, MD 20910-3226 (301-713-1401).

FOR FURTHER INFORMATION CONTACT: For permits 1130, 1140, 1242, 1243, and 1244: Leslie Schaeffer, Portland, OR (ph: 503-230-5433, fax: 503-230-5435, e-mail: Leslie.Schaeffer@noaa.gov).

For permits 1119, 1136, 1215, 1240, and 1241: Robert Koch, Portland, OR (ph: 503-230-5424, fax: 503-230-5435, e-mail: Robert.Koch@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in this Notice

The following species and evolutionarily significant units (ESU's) are covered in this notice:

Chinook salmon (Oncorhynchus tshawytscha): Threatened Snake River (SnR) fall, threatened SnR spring/summer, endangered upper Columbia River (UCR) spring, threatened lower Columbia River (LCR).

Coho salmon (O. kisutch): Threatened southern Oregon/ northern California coast (SONCC).

Sockeye salmon (O. nerka): Endangered SnR.

Steelhead (O. mykiss): Threatened SnR; endangered UCR; threatened middle Columbia River (MCR); threatened LCR.

To date, final protective regulations for threatened LCR chinook salmon and threatened SnR, MCR, and LCR steelhead under section 4(d) of the ESA have not been promulgated by NMFS. Protective regulations are currently proposed for threatened LCR chinook salmon (65 FR 169, January 3, 2000) and threatened SnR, MCR, and LCR steelhead (64 FR 73479, December 30, 1999). This notice of receipt of applications requesting takes of these species is issued as a precaution in the event that NMFS issues final regulations that prohibit takes of threatened LCR chinook salmon and threatened SnR, MCR, and LCR steelhead. The initiation of a 30-day public comment period on the applications, including their proposed takes of threatened LCR chinook salmon and threatened SnR, MCR, and LCR steelhead does not presuppose the contents of the final regulations.

New Applications Received

USGS (1240) requests a 5-year ESA section 10(a)(1)(A) permit for annual takes of juvenile naturally produced and artificially propagated SnR spring/summer chinook salmon, juvenile SnR fall chinook salmon, and juvenile SnR steelhead associated with a study designed to provide managers with data on the distribution, abundance, movement, and habitat use of the anadromous fish that migrate through Lower Granite Reservoir on the Snake River in the Pacific Northwest. In particular, the study will provide detailed information on the response of outmigrating smolts to the operation of a surface bypass collector prototype in the forebay of Lower Granite Reservoir. Project objectives and sampling plans will accommodate ESA-listed species recovery needs and constraints. The ESA-listed juvenile fish to be used for the study will be collected at pre-selected trap sites operated by the Idaho Department of Fish and Game and/or Smolt Monitoring Program (SMP) personnel under separate take authorizations and provided to USGS. ESA-listed juvenile fish may also be collected by purse seines in Lower Granite pool or from the juvenile fish bypass facility at Lower Granite Dam. The fish will then be transported as necessary, anesthetized, implanted with radio transmitters, allowed to recover, transported to an upstream release site, released, and tracked electronically. ESA-listed juvenile fish indirect mortalities are also requested.

USGS (1241) requests a 5-year ESA section 10(a)(1)(A) permit for annual takes of juvenile naturally produced and artificially propagated SnR spring/summer chinook salmon, juvenile SnR fall chinook salmon, juvenile naturally produced and artificially propagated UCR spring chinook salmon, juvenile LCR chinook salmon, juvenile SnR steelhead, juvenile naturally produced and artificially propagated UCR steelhead, juvenile MCR steelhead, and juvenile LCR steelhead associated with a study designed to provide managers with data on the timing, passage, and survival of outmigrating smolts in relation to the operations of John Day, The Dalles, and Bonneville Dams. Project objectives and sampling plans will accommodate ESA-listed species recovery needs and constraints. The target fish for the study consist of juvenile hatchery spring chinook salmon, subyearling fall chinook salmon, and juvenile hatchery steelhead. The fish to be used for the study will be collected from the juvenile bypass facilities at Bonneville, John Day, and/or McNary Dams on the lower Columbia River by SMP personnel under a separate take authorization and provided to USGS. The fish will then be transported as necessary, anesthetized, implanted with radio transmitters, allowed to recover, transported to an upstream release site, released, and tracked electronically. ESA-listed juvenile fish indirect mortalities associated with the research are also requested. In association with the radio transmitter tagging study, USGS proposes two tasks that will result in lethal takes of ESA-listed juvenile fish. USGS proposes to (1) statistically evaluate the survival rates of juvenile salmonids through John Day, The Dalles, and Bonneville Dams; and (2) evaluate the stress of juvenile salmonids that pass through the new bypass outfall pipe at Bonneville Dam's Second Powerhouse Downstream Migration Facility by measuring physiological indices (blood cortisol and lactate concentrations). For Task 1, fish will be acquired from SMP personnel at the dams, exposed to a lethal dose of anesthetic, and released in paired groups with the live radio-tagged fish to test the potential for dead research fish to be mistaken for live research fish. For Task 2, run-of-the-river fish are proposed to be netted from the sampling flume at Bonneville Dam to acquire the target fish; ESA-listed juvenile fish are proposed to be captured, handled, and released or captured and sacrificed.

FED-NWFSC (1242) requests a 5-year ESA section 10(a)(1)(A) permit to replace scientific research permit 946, which is due to expire on December 31, 2000. The permit is requested for annual takes of juvenile SnR sockeye salmon, juvenile naturally produced and artificially propagated SnR spring/summer chinook salmon, juvenile SnR fall chinook salmon, and juvenile SnR steelhead associated with research designed to evaluate inriver migration versus transportation from Lower Granite Dam on the Snake River to below Bonneville Dam on the Columbia River. Whether the transportation of depressed anadromous fish species should be maximized to enhance recovery is one of the most controversial and critical questions before the fisheries community today. The proposed scientific research is designed to provide definitive information relative to this important question. ESA-listed juvenile fish are proposed to be captured at Lower Granite Dam, handled (checked for condition), and released or captured at Lower Granite Dam, tagged with passive integrated transponders (PIT), and returned to the river below the dam. PIT-tagged fish will then be tracked downriver as juveniles, and later when they return to the Snake River Basin as adults, using automated PIT tag detectors at the hydropower dams on the Columbia and Snake Rivers. ESA-listed juvenile fish indirect mortalities associated with the research are also requested.

FED-NWFSC (1243) requests a 5-year ESA section 10(a)(1)(A) permit for annual takes of juvenile SnR sockeye salmon, juvenile naturally produced and artificially propagated SnR spring/summer chinook salmon, juvenile SnR fall chinook salmon, and juvenile SnR steelhead associated with research designed to evaluate juvenile fish survival at the Ice Harbor Dam spillway on the Snake River. Survival estimates for juvenile chinook salmon that migrate through the reservoirs, hydroelectric projects, and free-flowing sections of the Snake and Columbia Rivers are essential for developing effective strategies to recover depressed stocks. Recent survival studies have evaluated passage through various routes at all dams on the lower Snake River except Ice Harbor Dam. ESA-listed juvenile fish are proposed to be collected at Lower Monumental Dam on the Snake River by Smolt Monitoring Program personnel (authorized to collect fish under a separate authorization) and provided to FED-NWFSC. The fish are then proposed to be tagged with radio transmitters and/or PITs, transported to Ice Harbor Dam, held a minimum of 24 hours for recovery, and released into the spillway or transferred to a small barge, transported, and released into the tailrace. Tagged fish will then be tracked downriver as juveniles, and later when they return to the Snake River Basin as adults, using automated PIT tag detectors at the hydropower dams on the Columbia and Snake Rivers. ESA-listed juvenile fish indirect mortalities associated with the research are also requested.

FED-NWFSC (1244) requests a 2-year ESA section 10(a)(1)(A) permit to partially replace scientific research permit 1213, which is due to expire on December 31, 2000. The permit is requested for annual takes of juvenile SnR sockeye salmon, juvenile naturally produced and artificially propagated SnR spring/summer chinook salmon, juvenile SnR fall chinook salmon, juvenile naturally produced and artificially propagated UCR spring chinook salmon, juvenile LCR chinook salmon, juvenile SnR steelhead, juvenile naturally produced and artificially propagated UCR steelhead, juvenile MCR steelhead, and juvenile LCR steelhead associated with six studies designed to evaluate the juvenile fish bypass facilities at selected Snake and Columbia River dams. There is general agreement among the scientific community that problems associated with juvenile fish passage through mainstem river hydropower facilities have been a major factor in the decline of ESA-listed anadromous fish species in the Columbia River Basin. Based on the results from bypass studies, guidance devices and bypass system components can be redesigned, modified, or deployed using specific configurations to improve juvenile fish passage. ESA-listed juvenile fish are proposed to be collected at Ice Harbor Dam (Study 1) on the Snake River and McNary Dam (Studies 2 and 3), John Day Dam (Study 4), and Bonneville Dam (Studies 5 and 6) on the Columbia River. Once collected, the fish will be routed to holding tanks, handled (checked for fish condition and fork length), and released or routed to holding tanks, tagged/marked (with PITs, radio transmitters, and/or fin clips), and released. Tagged fish will then be tracked downriver as juveniles, and later when they return to the Columbia/Snake River Basins as adults, using automated PIT tag detectors at the hydropower dams on the Columbia and Snake Rivers. ESA-listed juvenile fish indirect mortalities associated with the research are also requested. In association with the scientific research, lethal takes of ESA-listed juvenile fish are requested for Studies 4 and 5. For Study 4, previously PIT-tagged hatchery yearling chinook salmon with different migration histories are proposed to be collected at John Day Dam, held in an artificial seawater recirculation system for extended periods, and ultimately sacrificed for physiological characteristics and disease profiles. For Study 5, ESA-listed juvenile fish are proposed to be collected in fyke nets at Bonneville Dam and sacrificed as a means to estimate the number of unguided fish during the submersible traveling screens fish guidance efficiency research at the dam.

Modification Requests Received

OCFWRU requests modifications to ESA section 10(a)(1)(A) permit 1136, which currently authorizes annual takes of juvenile SnR sockeye salmon, juvenile naturally produced and artificially propagated SnR spring/summer chinook salmon, juvenile SnR fall chinook salmon, and juvenile naturally produced and artificially propagated UCR steelhead associated with research designed to compare biological and physiological indices of wild and hatchery juvenile fish exposed to stress from bypass, collection, and transportation activities at the dams on the Snake and Columbia Rivers. The purpose of the research is to determine effects of manmade structures and management activities on outmigrating salmonids and to provide information that can be used to improve their survival. Lethal and non-lethal takes of ESA-listed juvenile fish are authorized by permit 1136. For the modifications, OCFWRU requests annual takes of juvenile MCR steelhead, juvenile LCR steelhead, and juvenile LCR chinook salmon. ESA-listed juvenile fish are proposed to be captured using lift nets or dipnets at McNary Dam and/or John Day Dam on the Columbia River or acquired from SMP or NMFS personnel at Bonneville Dam on the Columbia River, handled, and released while obtaining target fish for the research (primarily hatchery-produced chinook salmon and steelhead). OCFWRU also requests increases in takes of all ESA-listed juvenile fish species currently authorized to be taken by the permit, including both lethal and non-lethal takes. Finally, OCFWRU requests a 2-year extension of the permit. The modifications are requested to be valid for the duration of the permit, which is now proposed to expire on December 31, 2002.

Permits, Amendments, and Modifications Issued

Notice was published on March 2, 1998 (63 FR 10198) that USFWS had applied for a scientific research permit. Permit 1119 was issued on May 15, 1998, and authorized the annual take of adult and juvenile, naturally produced and artificially propagated UCR steelhead associated with studies designed to gather data on emerging juvenile salmon and steelhead and to conduct snorkel surveys in various watersheds as part of inventory and artificial structure monitoring projects. NMFS issued an amendment to permit 1119 on February 22, 2000, that authorizes USFWS annual direct takes of adult and juvenile, naturally produced and artificially propagated UCR spring chinook salmon associated with the studies. An associated indirect mortality of juvenile, naturally produced and artificially propagated UCR spring chinook salmon is also authorized. The amendment to permit 1119 is valid for the duration of the permit, which expires on December 31, 2002.

Notice was published on February 2, 1999 (64 FR 5030) that USGS had applied for a modification to scientific research permit 1130. Modification 1 to permit 1130 was issued on February 22, 2000, and authorizes USGS to tag a higher number of fish at John Day Dam and reduce the number tagged at Bonneville Dam due to an increased priority for evaluating fish passage efficiency at John Day Dam. USGS is also authorized annual takes of juvenile, naturally produced and artificially propagated UCR spring chinook salmon. Indirect mortalities of juvenile naturally produced and artificially propagated UCR spring chinook salmon associated with the research are also authorized. Modification 1 to permit 1130 is valid for the duration of the permit, which expires on December 31, 2002.

Notice was published on April 26, 1999 (64 FR 20266) that ECD had applied for a modification to scientific research permit 1140. Modification 1 to permit 1140 was issued on February 22, 2000, and authorizes ECD annual take of juvenile naturally produced and artificially propagated UCR spring chinook salmon. Modification 1 to permit 1140 is valid for the duration of the permit, which expires on December 31, 2002.

Notice was published on April 26, 1999 (64 FR 20266) that Mr. Charles Cortelyou, of DNR had applied for a scientific research permit that would authorize takes of juvenile UCR spring chinook salmon and juvenile UCR steelhead associated with salmonid presence/absence surveys in proposed timber sale areas in the State of Washington. The stream surveys will determine the correct stream classification and place the stream in the correct Riparian Management Zones (RMZ). The correct RMZ designation will protect listed fish by requiring proper riparian buffers be left along streams. Permit 1215 was issued on February 22, 2000, and expires on December 31, 2003.

Dated: February 25, 2000.
Wanda L. Cain,
Chief, Endangered Species Division, Office of Protected Resources, National Marine Fisheries Service.

[FR Doc. 00-5069 Filed 3-1-00; 8:45 am]

BILLING CODE 3510-22-F